DEPARTMENT OF ENERGY

Federal Energy Regulatory Commission

[Project No. 2336-101]

Georgia Power Company; Notice of Application Tendered for Filing With the Commission and Establishing Procedural Schedule for Licensing and Deadline for Submission of Final Amendments

Take notice that the following hydroelectric application has been filed with the Commission and is available for public inspection.

a. Type of Application: New Major License.

b. Project No.: 2336-101.

c. Date Filed: January 3, 2022.

d. Applicant: Georgia Power Company (Georgia Power).

e. Name of Project: Lloyd Shoals Hydroelectric Project (Lloyd Shoals Project.)

f. Location: The Lloyd Shoals Project is located on the Ocmulgee River in Butts, Henry, Jasper, and Newton Counties, Georgia. The project does not occupy any federal land.

g. Filed Pursuant to: Federal Power Act, 16 U.S.C. 791 (a)-825(r).

h. Applicant Contact: Courtenay O'Mara, Hydro Licensing & Compliance Supervisor; Georgia Power Company; 241 Ralph McGill Boulevard NE; Bin 10193; Atlanta, Georgia 30308-3374; (404) 506-7219, or email at cromara@southernco.com.

i. FERC Contact: Navreet Deo at (202) 502-6304, or email at navreet.deo@ferc.gov.

j. This application is not ready for environmental analysis at this time.

k. The Lloyd Shoals Project consists of: (1) The 4,750-acre Lake Jackson at normal pool elevation of 530 feet Plant Datum (PD) with a gross storage capacity of 107,000 acre-feet; (2) a 1,600-foot-long, 106-foot-high concrete gravity dam consisting of a 143-foot-long non-overflow section, a 198-foot-long powerhouse intake section with six, 12-foot-high by 12-foot-wide octagonal water passages supplying the generating units, a 728.5-foot-long spillway section consisting of a trash gate and an Obermeyer gate system, and a 530-foot-long earth embankment tie-in; (3) a concrete and brick powerhouse containing six horizontal Francis turbine-generator units, each rated at 3.0-megawatts (MW), for a total authorized installed capacity of 18-MW; (4) a 2,100-foot-long saddle dike approximately 3,000 feet upstream of the east end of the main dam; (5) a 500-foot-long auxiliary spillway, topped with 10-foot-high flashboards, located 900 feet southwest of the main dam, which includes a 560-foot-long, 6-foot-high sacrificial earth embankment; (6) two 2.3-kilovolt generator leads connecting the powerhouse to a substation located at the west dam abutment; and (7) appurtenant facilities. Georgia Power proposes no modifications to existing project facilities.

The Lloyd Shoals Project operates in a modified run-of-river mode to generate power during peak demand. Reservoir elevations are maintained between 530 feet PD and 527 feet PD year-round, excluding planned drawdowns and drought. The project provides a continuous minimum flow of 400 cubic feet per second (cfs), or inflow, to the Ocmulgee River downstream for the protection and enhancement of fish and wildlife resources and other downstream resources. Georgia Power proposes no changes to project operation.

Georgia Power proposes environmental measures to improve and enhance water quality, aquatic habitat, and recreation facilities. Georgia Power also proposes plans for protection of shoreline resources and historic properties.

l. A copy of the application can be viewed on the Commission's website at http://www.ferc.gov, using the “eLibrary” link. Enter the docket number, excluding the last three digits in the docket number field, to access the document. At this time, the Commission has suspended access to the Commission's Public Reference Room due to the proclamation declaring a National Emergency concerning the Novel Coronavirus Disease (COVID-19) issued on March 13, 2020. For assistance, contact FERC at FERCOnlineSupport@ferc.gov, or call toll-free, (866) 208-3676 or (202) 502-8659 (TTY).

m. You may also register online at http://www.ferc.gov/docs-filing/esubscription.asp to be notified via email of new filings and issuances related to this or other pending projects. For assistance, contact FERC Online Support.

n. Procedural schedule: The application will be processed according to the following preliminary schedule. Revisions to the schedule will be made as appropriate.

Milestone | Target date
Issue Deficiency Letter (if necessary) | January 2022.
Request Additional Information (if necessary) | February 2022.
Notice of Acceptance/Notice of Ready for Environmental Analysis | March 2022

o. Final amendments to the application must be filed with the Commission no later than 30 days from the issuance date of the notice of ready for environmental analysis.

Dated: January 14, 2022.
Kimberly D. Bose,
Secretary.

[FR Doc. 2022-01174 Filed 1-20-22; 8:45 am]

BILLING CODE 6717-01-P